DEPARTMENT OF DEFENSE

Office of the Secretary

[Docket ID: DoD-2013-OS-0090]

Notice of Availability (NOA) for Sharpe Permit Relinquishment Project Environmental Assessment

AGENCY: Defense Logistics Agency, DoD.

ACTION: Notice of Availability (NOA) for Sharpe Permit Relinquishment Project Environmental Assessment.

SUMMARY: The Defense Logistics Agency (DLA) announces the availability of an environmental assessment (EA) for the potential environmental impacts associated with the proposed action to relinquish DLA's current permit from the U.S. Department of the Army for the use and occupancy of the Defense Distribution Depot San Joaquin, California—Sharpe [Sharpe Site]. The EA has been prepared as required under the National Environmental Policy Act (NEPA) of 1969 (42 U.S.C. 4331 et seq.) In addition, the EA complies with DLA Regulation (DLAR) 1000.22. The EA evaluates the potential environmental impacts of relinquishing the permit and moving the Sharpe Site operations to the near-by Defense Distribution Depot San Joaquin, California—Tracy Site and potentially other DLA facilities. Based on the analysis in the EA, DLA has determined that the proposed action was not a major federal action significantly affecting the quality of the human environment within the context of NEPA. Therefore, the preparation of an environmental impact statement (EIS) is not required.

DATES: The public comment period will end 30 days after publication of this NOA in the Federal Register. Comments received by the end of the 30-day period will be considered when preparing the final version of the document. The EA is available electronically at http://www.dla.mil/Documents/Sharpe%20EA%20040113%20v1%20from%20Anil%20received%20in%20DS-E%2004-03-13pdf.pdf. In addition, a hard copy of the EA is available at Lathrop Public Library, 15461 7th Street, Lathrop, California 95440 and at the Defense Distribution Depot San Joaquin—Tracy Site Public Affairs Office, 2600 S. Chrisman Road, Building 1, Tracy, California 95304. A copy of the EA may be requested by contacting Defense Distribution Depot San Joaquin—Tracy Site Public Affairs Office at (209) 839-4226.

ADDRESSES: You may submit comments, identified by docket number and title, by any of the following methods:

• Federal eRulemaking Portal: http://www.regulations.gov. Follow the instructions for submitting comments.

• Mail: Federal Docket Management System Office, 4800 Mark Center Drive, East Tower, 2nd floor, Suite 02G09, Alexandria, VA 22350-3100.

FOR FURTHER INFORMATION CONTACT: Public Affairs Office, Tracy, California, (209) 839-4226.

Dated: April 25, 2013.
Aaron Siegel,
Alternate OSD Federal Register Liaison Officer, Department of Defense.

[FR Doc. 2013-10123 Filed 4-29-13; 8:45 am]

BILLING CODE 5001-06-P